DEPARTMENT OF ENERGY

Federal Energy Regulatory Commission

[Project No. 349-085]

Notice of Application for Non-project Use of Project Lands and Waters and Soliciting Comments, Motions to Intervene, and Protests

January 9, 2003.

Take notice that the following application has been filed with the Commission and is available for public inspection:

a. Application Type: Non-Project Use of Project Lands.

b. Project No: 349-085.

c. Date Filed: December 17, 2002.

d. Applicant: Alabama Power Company.

e. Name of Project: Martin Dam Project.

f. Location: The project is located on the Tallapoosa River in the counties of Coosa, Elmore, and Tallapoosa, Alabama. The Willow Point Golf and Country Club site does not involve federal or tribal lands.

g. Filed Pursuant to: Federal Power Act, 16 U.S.C. 791 (a) 825(r) and sections 799 and 801.

h. Applicant Contact: Mr. Alan L. Peeples, Alabama Power Company, P.O. Box 2641, 600 North 18th Street, Birmingham, Alabama, 35291. Telephone (205) 257-1401, or E-mail address: alpeeple@southernco.com.

i. FERC Contacts: Any questions on this notice should be addressed to: Mrs. Jean Potvin at (202) 502-8928, or e-mail address: jean.potvin@ferc.gov .

j. Deadline for filing comments and or motions: January 31, 2003.

All documents (original and eight copies) should be filed with: Ms. Magalie R. Salas, Secretary, Federal Energy Regulatory Commission, 888 First Street, NE., Washington DC 20426. Please include the project number (P-349-085) on any comments or motions filed. Comments, protests, and interventions may be filed electronically via the internet in lieu of paper. See 18 CFR 385.2001(a)(1)(iii) and the instructions on the Commission's Web site under the “e-Filing” link. The Commission strongly encourages e-filings.

k. Description of Requests: The licensee proposes to grant an easement for the renovation of the golf course at Willow Point Golf and Country Club on Lake Martin in Tallapoosa County, Alabama. The proposal includes the mechanical excavation from the lake bottom of 2110 cubic yards of material. About 1200 cubic yards of this excavated material will be used to fill 0.16 acres of Martin Reservoir with the remaining material placed at other non-project locations on the golf course. This will result in approximately 910 cubic yards net increase in the storage volume of the reservoir. Finally, the proposal includes the addition of two rock boulder seawalls. One seawall will be located in the area of the excavation work and will be approximately 462.5 feet long. The second seawall will be approximately 225 feet long and will be located along the existing shoreline which will be backfilled to the 490-foot project boundary.

l. Location of the Applications: The filing is available for review at the Commission in the Public Reference Room , located at 888 First Street, NE., Room 2A, Washington, DC 20426, or may be viewed on the Commission's Web site at http://www.ferc.gov using the “FERRIS” link. Enter the docket number excluding the last three digits in the docket number field to access the document. For assistance, please call the Helpline at (866) 208-3676 or contact FERCONLINESUPPORT@ferc.gov. For TTY, contact (202) 502-8659.

m. Individuals desiring to be included on the Commission's mailing list should so indicate by writing to the Secretary of the Commission.

n. Comments, Protests, or Motions to Intervene—Anyone may submit comments, a protest, or a motion to intervene in accordance with the requirements of Rules of Practice and Procedure, 18 CFR 385.210, .211, .214. In determining the appropriate action to take, the Commission will consider all protests or other comments filed, but only those who file a motion to intervene in accordance with the Commission's Rules may become a party to the proceeding. Any comments, protests, or motions to intervene must be received on or before the specified comment date for the particular application.

o. Filing and Service of Responsive Documents—Any filings must bear in all capital letters the title “COMMENTS”, “RECOMMENDATIONS FOR TERMS AND CONDITIONS”, “PROTEST”, OR “MOTION TO INTERVENE”, as applicable, and the Project Number of the particular application to which the filing refers. A copy of any motion to intervene must also be served upon each representative of the Applicant specified in the particular application.

p. Agency Comments—Federal, state, and local agencies are invited to file comments on the described applications. A copy of the applications may be obtained by agencies directly from the Applicant. If an agency does not file comments within the time specified for filing comments, it will be presumed to have no comments. One copy of an agency's comments must also be sent to the Applicant's representatives.

q. Comments, protests and interventions may be filed electronically via the Internet in lieu of paper. See 18 CFR 385.2001(a)(1)(iii) and the instructions on the Commission's Web site at http://www.ferc.gov under the “e-Filing” link.

Magalie R. Salas,
Secretary.

[FR Doc. 03-889 Filed 1-14-03; 8:45 am]

BILLING CODE 6717-01-P